DEPARTMENT OF DEFENSE

Department of the Navy

[Docket ID USN-2012-0009]

Privacy Act of 1974; System of Records

AGENCY: Department of the Navy, DoD.

ACTION: Notice To Alter a System of Records.

SUMMARY: The Office of the Department of the Navy proposes to alter a system of records in its inventory of record systems subject to the Privacy Act of 1974 (5 U.S.C. 552a), as amended.

DATES: This proposed action will be effective on July 30, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, HEAD, FOIA/Privacy Act Policy Branch, Department of the Navy, 2000 Navy Pentagon, Washington, DC 20350-2000, or by phone at (202) 685-6546.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on June 22, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 22, 2012.
Aaron Siegel,
Alternate OSD Federal Register Liaison Officer, Department of Defense.

NM01500-10

System name:

Navy Training Management and Planning System (NTMPS), (August 24, 2005, 70 FR 49595).

Changes:

* * * * *

System location:

Delete entry and replace with “Naval Undersea Warfare Center Division (NUWC) Newport, Bldg 104, NUWC Division Newport Datacenter, 1176 Howell St., Newport, RI 02841-5047.”

Categories of individuals covered by the system:

Delete entry and replace with “Active and reserve duty U.S. Navy and Marine Corps military personnel, Navy contractors and civilian personnel.”

Categories of records in the system:

Delete entry and replace with “Name, Social Security Number (SSN), date of birth, gender, race/ethnicity, professional qualifications and skills, training courses completed, certifications received, level of education, military awards received, duty assignments, language skills, security clearance information (code, eligibility, date granted, agency granting, investigation completion date and investigation type code), rate/rank, status, branch of service, activity Unit Identification Code (UIC), Employee ID (The Personnel Command PeopleSoft database generated system identification number to be used between systems passing personnel data), and DoD ID Number.”

Authority for maintenance of the system:

Delete entry and replace with “10 U.S.C. 5013, Secretary of the Navy; July 2008 NAVADMIN 203/08 Combating Trafficking in Persons (CTIP) Training Policy Update; DODI 8500.2, Information Assurance Implementation; OPNAVINST 5351.2, Enlisted Navy Leadership Development (NAVLEAD); April 2009 NAVADMIN 114/09 Trafficking in Personnel Policy Update; OPNAVINST 1500.22F, United States Navy Personnel Financial Management (PFM) Education, Training, and Counseling Program; and E.O. 9397 (SSN), as amended.”

Purpose(s):

Delete entry and replace with “The purpose of this system is to maintain a listing of training, education, and qualifications for use by Manpower, Personnel, Training and Education (MPTE) managers. The system will also provide projections of training requirements.”

* * * * *

Storage:

Delete entry and replace with “Electronic storage media.”

Retrievability:

Delete entry and replace with “Name, SSN, Employee ID, and Activity Unit Identification Code (UIC).”

Safeguards:

Delete entry and replace with “The NTMPS servers are located in a secure area at NUWC Newport. Access to the data marts is controlled through CAC login. All data transferred is encrypted. The interface server is protected from attempts to penetrate the firewall through the existing NUWC and NMCI controls. NTMPS users are limited to viewing data approved by their command supervisor.”

Retention and disposal:

Delete entry and replace with “Source records are retained per guidelines of source systems/database. All records residing internally on NTMPS servers or saved on external media are destroyed when no longer needed or after 2 years, whichever is longer.”

System manager(s) and address:

Delete entry and replace with “Commander Program Executive Office for Enterprise Information Systems (PEO-EIS), (ATTN: PMW-240 Program Manager), 2451 Crystal Drive, Suite 1139, Arlington, VA 22202-4804.”

Notification procedure:

Delete entry and replace with “Individuals seeking to determine whether information about themselves is contained in this system should address written inquiries to the Commander, Program Executive Office for Enterprise Information Systems (PEO-EIS), (ATTN: PMW-240 Program Manager), 2451 Crystal Drive, Suite 1139, Arlington, VA 22202-4804.

Written request should contain full name, current rate/rank, status, branch of service, and must be signed.

The system manager may require an original signature or a notarized signature as a means of proving the identity of the individual requesting access to the records.”

Record access procedures:

Delete entry and replace with “Individuals seeking access to additional information about themselves contained in this system should address written inquiries to the Commander Program Executive Office for Enterprise Information Systems (PEO-EIS), (ATTN: PMW-240 Program Manager), 2451 Crystal Drive, Suite 1139, Arlington, VA 22202-4804.

Written request should contain full name, current rate/rank, status, branch of service, and must be signed.

The system manager may require an original signature or a notarized signature as a means of proving the identity of the individual requesting access to the records.”

* * * * *

Record source categories:

Delete entry and replace with “Individual and DON Privacy Act systems of records, including: N01080-1, Enlisted Master File; N01080-2, Officer Master File; N01500-3, Student/Smart/VLS Records, NM01560-1 Navy College Management Information System, NM01500-3 Advanced Skills Management (ASM) System, NM01500-9 Integrated Learning Environment (ILE) Classes, NM01500-2 Department of the Navy (DON) Education and Training Records, N07220-1 Navy Standard Integrated Personnel System (NSIPS), and NM05100-5 Enterprise Safety Applications Management System (ESAMS).”

* * * * *

[FR Doc. 2012-15799 Filed 6-27-12; 8:45 am]

BILLING CODE 5001-06-P